DEPARTMENT OF AGRICULTURE

Agricultural Marketing Service

7 CFR Part 51

[Docket Number FV-06-313]

United States Standards for Grades of Winter Pears

AGENCY: Agricultural Marketing Service, USDA.

ACTION: Advance notice of proposed rulemaking.

SUMMARY: The Agricultural Marketing Service (AMS) prior to undertaking research and other work associated with revising official grade standards, is soliciting comments on the possible revisions of the United States Standards for Grades of Winter Pears. AMS has been reviewing the Fresh Fruit and Vegetable grade standards for usefulness in serving the industry. As a result AMS is considering revisions to the winter pear standard to include removing the section 51.1309, Condition after storage or transit. This section has caused confusion within the industry in the past due to different procedures incurred when reporting inspection findings in comparison to other grade standards. Additionally, AMS is seeking comments regarding any other revisions to the standards that may be necessary to better serve the industry.

DATES: Comments must be received by January 2, 2007.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Winter Pears are available either at the above address or by accessing the AMS, Fresh Products Branch Web site at: http://www.ams.usda.gov/standards/stanfrfv.htm.

FOR FURTHER INFORMATION CONTACT: Cheri L. Emery, at the above address or call (202) 720-2185; E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request.

AMS is considering revisions to the United States Standards for Grades of Winter Pears. These standards were last published on September 10, 1955.

Executive Order 12866

The Office of Management and Budget has waived the review process required by Executive Order 12866 for this action.

Background

AMS has been reviewing the Fresh Fruit and Vegetable grade standards for usefulness in serving the industry. AMS is considering a revision to the United States Standards for Grades of Winter Pears. The revision would eliminate the section 51.1309, Condition after storage or transit, which states that “decay, scald or other deterioration which may have developed on pears after they have been in storage or transit shall be considered as affecting condition and not the grade.” Due to this requirement, pears may fail to meet the requirements of the grade the pears would be reported as “meets grade.” For example: a lot of pears that fail to meet the requirements of the U.S. No. 1 grade due to exceeding the decay tolerance would be reported as “U.S. No. 1 with decay being a factor of condition.” This has caused confusion within the industry as generally when a product exceeds a tolerance for grade it is reported as “fails to grade.” Removing this section will eliminate any confusion in the future and bring the winter pear standard in line with other standards. However, prior to undertaking detailed work to develop the proposed revision to the standards, AMS is soliciting comments on these changes as well as any other revisions to the United States Standards for Grades of Winter Pears to better serve the industry.

This notice provides for a 60-day comment period for interested parties to comment on whether any changes are necessary to the standards. Should AMS conclude that there is a need for any revisions of the standards, the proposed revisions will be published in the Federal Register with a request for comments.

Authority: 7 U.S.C. 1621-1627.

Dated: October 27, 2006.
Lloyd C. Day,
Administrator, Agricultural Marketing Service.

[FR Doc. E6-18504 Filed 11-1-06; 8:45 am]

BILLING CODE 3410-02-P